DEPARTMENT OF COMMERCE

International Trade Administration

[A-570-979]

Crystalline Silicon Photovoltaic Cells, Whether or Not Assembled Into Modules, From the People's Republic of China: Rescission of Antidumping Duty New Shipper Review; 2014-2015

AGENCY: Enforcement and Compliance, International Trade Administration, Department of Commerce.

SUMMARY: In response to a request from Anji DaSol Solar Energy Science & Technology Co., Ltd. (“Anji DaSol”), the Department of Commerce (“the Department”) initiated a new shipper review of the antidumping duty order on crystalline silicon photovoltaic cells, whether or not assembled into modules, (“solar cells”) from the People's Republic of China (“PRC”) covering the period December 1, 2014 through November 30, 2015.¹ On March 21, 2016, Anji DaSol timely withdrew its request for a new shipper review.² Accordingly, the Department is rescinding the new shipper review with respect to Anji DaSol.

¹ See Crystalline Silicon Photovoltaic Cells, Whether or Not Assembled Into Modules, From the People's Republic of China: Initiation of Antidumping Duty New Shipper Review, 81 FR 5711 (February 3, 2016).

² See Letter from Anji DaSol to the Secretary of Commerce, “Crystalline Silicon Photovoltaic Cells, Whether or not Assembled Into Modules, from the People's Republic of China; Withdrawal of New Shipper Review Request,” dated March 21, 2016.

DATES: Effective Date: April 5, 2016.

FOR FURTHER INFORMATION CONTACT: Cara Lofaro, AD/CVD Operations, Office IV, Enforcement & Compliance, International Trade Administration, Department of Commerce, 14th Street and Constitution Avenue NW., Washington, DC 20230; telephone: (202) 482-5720.

SUPPLEMENTARY INFORMATION:

Rescission of New Shipper Review

On February 3, 2016, the Department initiated a new shipper review for Anji DaSol, and on March 21, 2016, Anji DaSol withdrew its new shipper review request. Section 351.214(f)(1) of the Department's regulations provides that the Department may rescind a new shipper review if the party that requested the review withdraws its request for review no later than 60 days after the date of publication of the notice of initiation of the requested review. Given that Anji DaSol timely withdrew its request for a new shipper review, the Department is rescinding the new shipper review of the antidumping duty order on solar cells from the PRC with respect to Anji DaSol. Consequently, Anji DaSol will remain part of the PRC-wide entity.

Assessment

Because we are rescinding the new shipper review of Anji DaSol, we are not making a determination as to whether Anji DaSol qualifies for a separate rate. Therefore, Anji DaSol remains part of the PRC-wide entity and any entries covered by this new shipper review will be assessed at the PRC-wide rate. The PRC-wide entity is not under review in the ongoing administrative review covering the 2014-2015 period of review, and therefore, Anji DaSol is not under review in the concurrent administrative review.³ Accordingly, the Department intends to issue liquidation instructions for any entries by Anji DaSol 15 days after publication of this rescission notice.

³ See Initiation of Antidumping and Countervailing Duty Administrative Reviews, 81 FR 6832 (February 9, 2016).

Cash Deposit

Effective upon publication of the rescission of the new shipper review of Anji DaSol, the Department will instruct U.S. Customs and Border Protection to discontinue the option of posting a bond or security in lieu of a cash deposit for entries of subject merchandise from Anji DaSol.⁴ Because we did not calculate a dumping margin for Anji DaSol or grant Anji DaSol a separate rate in this new shipper review, Anji DaSol continues to be part of the PRC-wide entity. The cash deposit rate for the PRC-wide entity is 238.95 percent. These cash deposit requirements shall remain in effect until further notice.

⁴ See section 751(a)(2)(B)(iii) of the Tariff Act of 1930, as amended (“the Act”); see also 19 CFR 351.214(e).

Notifications to Interested Parties

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties. This notice also serves as a reminder to parties subject to administrative protective order (“APO”) of their responsibility concerning the return or destruction of proprietary information disclosed under APO, in accordance with 19 CFR 351.305(a)(3). Timely written notification of the return or destruction of APO materials, or conversion to judicial protective order, is hereby requested. Failure to comply with the regulations and terms of an APO is a violation which is subject to sanction.

This rescission and notice are published in accordance with sections 751(a)(2)(B) and 777(i) of the Act and 19 CFR 351.214(f)(3).

Dated: March 29, 2016.
Christian Marsh,
Deputy Assistant Secretary for Antidumping and Countervailing Duty Operations.

[FR Doc. 2016-07776 Filed 4-4-16; 8:45 am]

BILLING CODE 3510-DS-P